DEPARTMENT OF LABOR

Employment and Training Administration

[TA-W-60,434]

HI Specialty America Division of Hitachi Metals America, Ltd. Irwin, PA; Notice of Termination of Investigation

Pursuant to Section 221 of the Trade Act of 1974, as amended, an investigation was initiated on November 15, 2006, in response to a worker petition filed by a company official on behalf of workers at Hi Specialty America, Division of Hitachi Metals America, Ltd., Irwin, Pennsylvania.

The petitioner has requested that the petition be withdrawn. Consequently, the investigation has been terminated.

Signed at Washington, DC this 11th day of December 2006.
Linda G. Poole,
Certifying Officer, Division of Trade Adjustment, Assistance.

[FR Doc. E6-21788 Filed 12-20-06; 8:45 am]

BILLING CODE 4510-30-P